ENVIRONMENTAL PROTECTION AGENCY

[EPA-HQ-OPP-2004-0385; FRL-8350-4]

Permethrin; Amended Reregistration Eligibility Decision; Notice of Availability

AGENCY: Environmental Protection Agency (EPA).

ACTION: Notice.

SUMMARY: This notice announces EPA's intention to modify certain risk mitigation measures that were imposed as a result of the 2006 Reregistration Eligibility Decision (RED) for the pesticide permethrin. EPA conducted this reassessment of the permethrin RED in response to public comments received. In response to the commentors and continuing efforts to mitigate risk, the Agency has made several modifications to the permethrin RED label requirements including: Clarification of application rates to mushroom houses; revised droplet sizes for wide area mosquito abatement products; and mandatory label statements for canine spot-on products, pre-construction termiticide applications, and spray drift language for agricultural products. Additionally, the Agency has revised the data requirements and added a statement to Section IV of the RED to address concerns regarding the residential use of outdoor pesticide misting systems.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Access this Document and Other Related Information?

1. Docket. EPA has established a docket for this action under docket identification (ID) number EPA-HQ-OPP-2004-0385. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. Background

What Action is the Agency Taking?

Under section 4 of the Federal Insecticide, Fungicide, and Rodenticide Act (FIFRA), EPA is reevaluating existing pesticides to ensure that they meet current scientific and regulatory standards. In 2006, EPA issued a RED for permethrin under section 4(g)(2)(A) of FIFRA. In response to a notice of availability published in the Federal Register on June 28, 2006 (71 FR 36788) (FRL-8074-5), the Agency received substantive comments from the technical registrant and other commentors. The Agency's response to these comments is available for viewing in the public docket. The amended permethrin RED reflects changes resulting from these comments as well as subsequent efforts by the Agency to mitigate overall risk.

III. What Does this Amendment Do?

The amended permethrin RED reflects revisions resulting from Agency consideration of public comments to the RED and efforts to develop standardized label language for certain applications. The label table incorporated into the permethrin RED amendment includes modifications which provide mandatory label language for canine spot-on products, pre-construction termiticide applications, and spray drift language for agricultural products; clarification of application rates to mushroom houses; and revised droplet sizes for wide area mosquito abatement products.

In addition, to address concerns regarding the residential use of outdoor pesticide misting systems, the following statement has been added to the permethrin RED: “The Agency has developed an Outdoor Residential Misting System web-based fact sheet page designed to help consumers decide if these systems are appropriate for their home, understand safety precautions about using outdoor misting systems, find related information on Integrated Pest Management, and understand the role of the US EPA and state agencies in regulating misters.”

Also, the permethrin RED has been amended to reflect the Agency's determination that efficacy data is required for the following product groups which claim to target public health pests: Outdoor residential misting systems, permethrin impregnated clothing products, and permethrin products used on domestic animals. The generic data call-in requirements have also been revised to exclude the following confirmatory studies which the Agency has determined are not required: Whole sediment acute toxicity for freshwater and estuarine/marine invertebrates, directions for use, and enforcement analytical method for animals.

List of Subjects

Environmental protection, Pesticides and pests.

Dated: February 20, 2008.
Steven Bradbury,
Director, Special Review and Reregistration Division, Office of Pesticide Programs.

[FR Doc. E8-3690 Filed 2-26-08; 8:45 a.m.]

BILLING CODE 6560-50-S